DEPARTMENT OF HEALTH AND HUMAN SERVICES

Health Care Financing Administration.

[Document Identifier: HCFA-R-0262]

Agency Information Collection Activities: Submission for OMB Review; Comment Request

AGENCY: Health Care Financing Administration

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Reinstatement, with change, of a previously approved collection for which approval expired; Title of Information Collection: The Adjusted Community Rate Proposal (ACRP) M+C Plan Benefit Package and Supporting Regulations in 42 CFR 417.401, 22.1-422.10, 422.50-422.80, 422.100-422.132, 422.300-422.312, 422.400-422.404, and 422.560-422.622; Form No.: HCFA-R-0262 (OMB# 0938-0763); Use: The plan benefit package data will be used to approve managed care organization benefits, approve adjusted community rate pricing packages, and support both managed care organization and HCFA beneficiary information campaign and marketing efforts. Respondents include any M+C organization that intends to offer an M+C plan in calendar years 2001-2003.

This collection will also allow the HCFA to provide a totally automated submission and review capability, replace text with data format, establish a standard set of benefit descriptions/definitions, provide a framework to describe benefits, reduce variation in benefit descriptions, and eliminate the need to validate Medicare Compare data; Frequency: Annual; Affected Public: Business or other for-profit, and Not-for-profit institution; Number of Respondents: 300; Total Annual Responses: 300; Total Annual Hours: 900.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 30 days of this notice directly to the OMB desk officer: OMB Human Resources and Housing Branch, Attention: Allison Eydt, New Executive Office Building, Room 10235, Washington, D.C. 20503.

Dated: January 7, 2000.
John Parmigiani,
Acting Reports Clearance Officer, HCFA Office of Information Services, Security and Standards Group, Division of HCFA Enterprise Standards.

[FR Doc. 00-1603 Filed 1-21-00; 8:45 am]

BILLING CODE 4120-03-P